DEPARTMENT OF JUSTICE

Notice of Lodging Proposed Consent Decree

In accordance with Departmental Policy, 28 CFR 50.7, notice is hereby given that a proposed Consent Decree in United States v. Porter, Civil Action No. 4:09-cv-170-SEB-DML, was lodged with the United States District Court for the Southern District of Indiana, New Albany Division, on January 18, 2013.

This proposed Consent Decree concerns a complaint filed by the United States against Wesley Porter, Wes Porter Development Company, LLC, Temple and Temple Excavating and Paving, Inc., and Robert Jason Shumate, pursuant to Sections 309 and 404 of the Clean Water Act, 33 U.S.C. 1319 and 1344, to obtain injunctive relief from the Defendants for violating the Clean Water Act by discharging pollutants without a permit into waters of the United States. The proposed Consent Decree resolves these allegations by requiring the Defendants to restore the impacted areas and/or to perform mitigation.

The Department of Justice will accept written comments relating to this proposed Consent Decree for thirty (30) days from the date of publication of this Notice. Please address comments to Perry M. Rosen, United States Department of Justice, Environment and Natural Resources Division, P.O. Box 7611, Washington, DC 20044, and refer to United States v. Porter, DJ # 90-5-1-1-18341.

The proposed Consent Decree may be examined at the Clerk's Office, United States District Court for the Southern District of Indiana, 121 West Spring Street, New Albany, IN 47150. In addition, the proposed Consent Decree may be examined electronically at http://www.justice.gov/enrd/Consent_Decrees.html.

Cherie L. Rogers,
Assistant Section Chief, Environmental Defense Section, Environment and Natural Resources Division.

[FR Doc. 2013-01633 Filed 1-25-13; 8:45 am]

BILLING CODE P